DEPARTMENT OF COMMERCE

International Trade Administration

[A-570-878]

Saccharin From the People's Republic of China: Preliminary Results of Changed Circumstances Review

AGENCY: Import Administration, International Trade Administration, Department of Commerce.

SUMMARY: On July 23, 2009, the Department of Commerce (“the Department”) published in the Federal Register a notice of initiation of changed circumstances review for saccharin from the People's Republic of China (“PRC”) in response to a request on behalf of PMC Specialties Group, Inc. (“PMCSG”).¹ The Department has preliminarily determined that there is insufficient evidence of changed circumstances to warrant revocation of this order.

¹ See Saccharin from the People's Republic of China: Notice of Initiation of Changed Circumstances Review, 74 FR 36456 (July 23, 2009).

DATES: Effective Date: December 1, 2009.

FOR FURTHER INFORMATION CONTACT: Giselle Cubillos or Charles Riggle, AD/CVD Operations, Office 8, Import Administration, International Trade Administration, U.S. Department of Commerce, 14th Street and Constitution Avenue, NW., Washington, DC 20230; telephone: (202) 482-1778 and (202) 482-0650, respectively.

SUPPLEMENTARY INFORMATION:

Background

On July 9, 2003, the Department published in the Federal Register an antidumping duty order on saccharin from the PRC.² On June 8, 2009, the Department published in the Federal Register the notice of continuation of antidumping duty order on saccharin from the PRC.³ On June 4, 2009, the Department received a request on behalf of PMCSG for a changed circumstances review to revoke the antidumping duty order on saccharin from the PRC. PMCSG claimed that, as the sole domestic producer of saccharin, it no longer had an interest in the Saccharin Order. As part of its submission, PMCSG requested that the Department combine the notice of initiation with the preliminary results to revoke the Saccharin Order.

² See Notice of Antidumping Duty Order: Saccharin from the People's Republic of China, 68 FR 40906 (June 9, 2003) (“Saccharin Order”).

³ See Continuation of Antidumping Duty Order on Saccharin from the People's Republic of China, 74 FR 27089 (June 8, 2009).

On July 9, 2009, the Department received a letter opposing the request for a changed circumstances review from Kinetic Industries (“Kinetic”).⁴ Kinetic claimed that it produces saccharin through a third party toller in the United States and that both parties, Kinetic and its toll producer, are interested parties as domestic producers of saccharin. Both Kinetic and its toll producer requested that the Department not issue an expedited preliminary results in this changed circumstances review.

⁴ Although Kinetic filed a letter opposing PMCSG's request for changed circumstances review on July 2, 2009, the Department rejected that letter because it did not contain the appropriate certifications. The Department requested that Kinetic re-file its submission by July 10, 2009. On July 9, 2009, Kinetic refiled its submission with the appropriate certifications.

On July 23, 2009, the Department published in the Federal Register a notice of initiation of changed circumstances review for saccharin from the PRC. On July 23, 2009, the Department also issued questionnaires to PMCSG, Kinetic, and Kinetic's toller to solicit relevant information and fully evaluate the request to revoke the Saccharin Order, as well as the arguments against revocation. On July 24, 2009, the Department issued a letter to Kinetic and its toller notifying them that the Department could not grant proprietary treatment to the toll producer's name if the toll producer wished to be an interested party to the proceeding, and that, should the toller wish to continue as an interested party, the toller would need to submit a revised notice of appearance without its name bracketed. The toller did not submit a revised notice of appearance.

On August 17, 2009, the Department received questionnaire responses from Kinetic and Kinetic's toller. The Department has not received any response from PMCSG. In addition, PMCSG indicated to the Department that it would not respond to the questionnaire.⁵

⁵ See Memorandum to The File, “Changed Circumstances Review of Saccharin from the People's Republic of China: Phone Call to Wiley Rein LLP” (August 28, 2009).

On September 4, 2009, Kinetic submitted a letter urging the Department to issue an expedited negative preliminary results of the changed circumstances review and determine that domestic producers have affirmatively expressed an interest in maintaining the Saccharin Order. On October, 26 2009, PMCSG submitted a letter stating that it has determined not to respond to the Department's July 23, 2009, questionnaire, and that it is PMCSG's position that the record contains substantial evidence that it is a commercial producer and accounts for all U.S. production.

Scope of the Order

The product covered by this antidumping duty order is saccharin. Saccharin is defined as a non-nutritive sweetener used in beverages and foods, personal care products such as toothpaste, table top sweeteners, and animal feeds. It is also used in metalworking fluids. There are four primary chemical compositions of saccharin: (1) Sodium saccharin (American Chemical Society Chemical Abstract Service (“CAS”) Registry 128-44-9); (2) calcium saccharin (CAS Registry 6485-34-3); (3) acid (or insoluble) saccharin (CAS Registry 81-07-2); and (4) research grade saccharin. Most of the U.S.-produced and imported grades of saccharin from the PRC are sodium and calcium saccharin, which are available in granular, powder, spray-dried powder, and liquid forms. The merchandise subject to this order is currently classifiable under subheading 2925.11.00 of the Harmonized Tariff Schedule of the United States (“HTSUS”) and includes all types of saccharin imported under this HTSUS subheading, including research and specialized grades. Although the HTSUS subheading is provided for convenience and customs purposes, the Department's written description of the scope of this order remains dispositive.

Preliminary Results of Changed Circumstances Review

In the five-year sunset review of this order the Department stated that “PMCSG claimed interested party status under section 771(9)(C) of the Act as the sole domestic producer of saccharin in the United States and the petitioner in the original investigation,” which was not contested.⁶ However, since PMCSG failed to respond to the Department's questionnaire in the instant review, the Department is unable to determine PMCSG's status as a producer of the domestic like product and whether it represents “substantially all of the production of the domestic like product,” as required under the Department's regulations governing revocation. See 19 CFR 51.222(g)(1)(i). Accordingly, we are notifying the public of our intent to not revoke the antidumping duty order as it relates to imports of saccharin.

⁶ See Saccharin from the People's Republic of China: Notice of Final Results of Expedited Sunset Review of Antidumping Duty Order, 73 FR 59604 (October 9, 2008).

Public Comment

Interested parties are invited to comment on these preliminary results. Case briefs or other written comments may be submitted no later than seven days after the date of publication of these preliminary results. See 19 CFR 351.309(c). Rebuttals to written comments, limited to issues raised in such comments, may be filed no later than five days after the deadline date for case briefs. See 19 CFR 351.309(d). The Department will issue the final results of this changed circumstances review, which will include its analysis of any written comments, no later than 270 days after the date on which this review was initiated, or within 45 days if all parties agree to our preliminary results. See 19 CFR 351.216(e).

If revocation occurs, we will instruct U.S. Customs and Border Protection to end the suspension of liquidation for the merchandise covered by the revocation on the effective date of the notice of revocation and to release any cash deposit or bond. See 19 CFR 351.222(g)(4). The current requirement for a cash deposit of estimated antidumping duties on all subject merchandise will continue unless and until it is modified pursuant to the final results of this changed circumstances review.

The preliminary results of this review and notice are in accordance with sections 751(b) and 777(i) of the Act and 19 CFR 351.216, 351.221, and 351.222.

Dated: November 24, 2009.
Ronald K. Lorentzen,
Deputy Assistant Secretary for Import Administration.

[FR Doc. E9-28776 Filed 11-30-09; 8:45 am]

BILLING CODE 3510-DS-P